DEPARTMENT OF TRANSPORTATION

National Highway Traffic Safety Administration

[Docket No. DOT-NHTSA-2023-0002]

Request for Comment; Draft Model Minimum Uniform Crash Criteria (MMUCC) Guideline, Sixth Edition

AGENCY: National Highway Traffic Safety Administration (NHTSA), Department of Transportation (DOT).

ACTION: Request for public comment: 60-Day notice.

SUMMARY: The Model Minimum Uniform Crash Criteria (MMUCC) provides States a guideline for describing crashes involving motor vehicles in-transport to generate the information necessary to improve traffic safety. The primary benefit of using MMUCC is increased crash data uniformity so traffic safety insights can be developed more quickly. Since its inception in 1998, MMUCC has been a voluntary guideline for States; however, standardization of crash data is essential to NHTSA and its safety stakeholders. The crash data that NHTSA obtains from the States supports several of NHTSA's efforts such as the Fatality Analysis Reporting System (FARS) and the Crash Report Sampling System (CRSS), which are essential to NHTSA's traffic safety activities as well other Federal, State, and local agencies. Therefore, it is critical that the recommended MMUCC data elements be designed with clarity, purpose, and feasibility. NHTSA is revising the Model Minimum Uniform Crash Criteria (MMUCC) 5th Edition and requests comments on the draft MMUCC Guideline, Sixth Edition available at Regulations.gov, to inform appropriate improvements and identify stakeholder concerns. For example, crash data collectors may wish to comment on the feasibility of collecting data elements and attributes from the scene of a crash. Crash database administrators, managers, and technicians may wish to comment on the challenges and concerns with implementation and data governance. Crash data users may wish to comment on the utility of the draft MMUCC Guideline, Sixth Edition data elements as well as other guidance and suggest additional changes. Feedback will be reviewed by NHTSA and the Chartered MMUCC Committee to inform updates to the forthcoming Sixth Edition of the MMUCC guideline, anticipated in 2024.

DATES: Comments must be received within April 3, 2023.

ADDRESSES: You may submit comments bearing the Federal Docket Management System Docket ID, Docket DOT-NHTSA-2023-0002 using any of the following methods:

• Federal Rulemaking Portal: Go to https://www.regulations.gov. Follow the online instructions for submitting comments.

• Mail: Send comments to: Docket Management Facility, U.S. Department of Transportation, 1200 New Jersey Avenue SE, West Building, Room W12-140, Washington, DC 20590.

• Fax: Written comments may be faxed to (202) 493-2251.

• Hand Delivery: If you plan to submit written comments by hand or courier, please do so at 1200 New Jersey Avenue SE, West Building Ground Floor, Room W12-140, Washington, DC 20590, between 9 a.m. and 5 p.m./Eastern Time, Monday through Friday, except Federal holidays.

Please submit all comments to the Docket by April 3, 2023.

When you submit your comments, please remember to mention the agency and the docket number of this document within your correspondence. Please note that all comments received will be posted without change to https://www.regulations.gov, including any personal information provided. Please see the “Privacy Act” heading below.

Privacy Act: Anyone can search the electronic form of all comments received into any of our dockets by the name of the individual submitting the comments (or signing the comments, if submitted on behalf of an association, business, labor union, etc.). You may review DOT's complete Privacy Act Statement in the Federal Register published on January 17, 2008 (73 FR 3336) or at https://www.transportation.gov/individuals/privacy/privacy-act-system-records-notices (select “Department Wide System of Record Notices,” then select DOTALL 14 Federal Docket Management System).

Confidential Information: If you wish to submit any information under a claim of confidentiality, you should submit three copies of your complete submission, including the information you claim to be confidential business information, to the Chief Counsel, NHTSA, 1200 New Jersey Avenue SE, Washington, DC 20590. In addition, you should submit two copies, from which you have deleted the claimed confidential business information, to Docket Management at the address given above under ADDRESSES. When you send a comment containing information claimed to be confidential business information, you should include a cover letter setting forth the information specified in our confidential business information regulation (49 CFR part 512).

Docket: For access to the docket to read the proposed changes to MMUCC, background documents, or comments received, go to http://www.regulations.gov at any time and follow the online instructions for accessing the dockets. Or go to West Building Ground Floor, Room W12-140, 1200 New Jersey Avenue SE, Washington, DC 20590, between 9 a.m. and 5 p.m., Eastern Time, Monday through Friday, except Federal holidays.

FOR FURTHER INFORMATION CONTACT: For information, please contact Beau Burdett, National Center for Statistics and Analysis, NHTSA (telephone: 202-366-7338 or email: beau.burdett@dot.gov).

Authority: The Paperwork Reduction Act of 1995; 44 U.S.C. chapter 35, as amended; 49 CFR 1.49; and DOT Order 1351.29A.

Chou Lin Chen,
Associate Administrator, National Center for Statistics and Analysis.

[FR Doc. 2023-02140 Filed 2-1-23; 8:45 am]

BILLING CODE 4910-59-P